DEPARTMENT OF THE INTERIOR

Bureau of Indian Affairs

[178A2100DD/AAKC001030/A0A501010.999900253G]

Land Acquisitions; Craig Tribal Association, Craig, Alaska

AGENCY: Bureau of Indian Affairs, Interior.

ACTION: Notice of final agency determination.

SUMMARY: The Principal Deputy Assistant Secretary—Indian Affairs made a final agency determination to acquire 1.08 acres, more or less, of land in trust for the Craig Tribal Association, Alaska, for economic development and other purposes on January 10, 2017.

FOR FURTHER INFORMATION CONTACT: Helen Riggs, Director, Office of Trust Services, Bureau of Indian Affairs, MS-4620 MIB, 1849 C Street NW., Washington, DC 20240, telephone (202) 208-5831.

SUPPLEMENTARY INFORMATION: This notice is published in the exercise of authority delegated by the Secretary of the Interior to the Office of the Assistant Secretary—Indian Affairs by 209 Departmental Manual 8.1, and is published to comply with the requirements of 25 CFR 151.12 (c)(2)(ii) that notice of the decision to acquire land in trust be promptly provided in the Federal Register.

On January 10, 2017, the Principal Deputy Assistant Secretary—Indian Affairs issued a decision to accept approximately 1.08 acres, more or less, of land in trust for the Craig Tribal Association, Alaska, under the authority of the Indian Reorganization Act of 1934, 25 U.S.C. 465.

The Alaska Regional Director, on behalf of the Secretary of the Interior, will immediately acquire title in the name of the United States of America in trust for the Craig Tribal Association upon fulfillment of Departmental requirements.

Legal Description

The 1.08 acres, more or less, are located in the city of Craig, State of Alaska, and are described as follows:

Lot Q-3, subdivision of the unsubdivided remainder of Tract Q, U.S. Survey 2327, according to the plat thereof filed December 7, 1988, as plat No. 88-39, Ketchikan Recording District, State of Alaska, containing 1.08 acres.

Dated: January 10, 2017.
Lawrence S. Roberts,
Principal Deputy Assistant Secretary—Indian Affairs.

[FR Doc. 2017-00872 Filed 1-13-17; 8:45 am]

BILLING CODE 4337-15-P